DEPARTMENT OF TRANSPORTATION

Federal Aviation Administration

14 CFR Part 39

[Docket No. FAA-2012-0034; Directorate Identifier 2011-NM-153-AD; Amendment 39-17105; AD 2012-13-03]

RIN 2120-AA64

Airworthiness Directives; Bombardier, Inc. Airplanes

AGENCY: Federal Aviation Administration (FAA), Department of Transportation (DOT).

ACTION: Final rule.

SUMMARY: We are adopting a new airworthiness directive (AD) for certain Bombardier, Inc. Model CL-600-2B19 (Regional Jet Series 100 & 440) airplanes. This AD was prompted by a report of a ground fire which was fed by oxygen escaping from a damaged third crew person oxygen line and had started in the vicinity of an electrical panel. This AD requires replacing and changing the routing of the flexible oxygen hose of the third crew person oxygen line and modifying the entrance compartment assembly. We are issuing this AD to prevent the possibility of damage to the third crew person oxygen line and of an oxygen-fed fire in the airplane.

DATES: This AD becomes effective August 2, 2012.

The Director of the Federal Register approved the incorporation by reference of a certain publication listed in this AD as of August 2, 2012.

ADDRESSES: You may examine the AD docket on the Internet at http://www.regulations.gov or in person at the U.S. Department of Transportation, Docket Operations, M-30, West Building Ground Floor, Room W12-140, 1200 New Jersey Avenue SE., Washington, DC.

FOR FURTHER INFORMATION CONTACT: Cesar Gomez, Aerospace Engineer, Airframe and Mechanical Systems Branch, ANE-171, FAA, New York Aircraft Certification Office, 1600 Stewart Avenue, Suite 410, Westbury, New York 11590; telephone (516) 228-7318; fax (516) 794-5531.

SUPPLEMENTARY INFORMATION:

Discussion

We issued a notice of proposed rulemaking (NPRM) to amend 14 CFR part 39 to include an AD that would apply to the specified products. That NPRM was published in the Federal Register on January 23, 2012 (77 FR 3184). That NPRM proposed to correct an unsafe condition for the specified products. The MCAI states:

An operator has reported a ground fire in the CL-600-2B19 aeroplane. The fire burnt an 18 inch hole through the left upper fuselage skin panel in the cockpit area. The fire started in the vicinity of the Junction Box 1 (JB1) electrical panel, and was fed by oxygen escaping from a damaged third crewman oxygen line.

This [Transport Canada Civil Aviation (TCCA)] Airworthiness Directive (AD) was issued to prevent the possibility of damage to the third crewman oxygen line and an oxygen fed fire in the aeroplane.

You may obtain further information by examining the MCAI in the AD docket.

Comments

We gave the public the opportunity to participate in developing this AD. We have considered the comments received.

Support for the NPRM (77 FR 3184, January 23, 2012)

Air Line Pilots Association, International (ALPA) stated that the proposed actions will enhance safety and that it supports the intent of the NPRM (77 FR 3184, January 23, 2012).

Request To Shorten the Compliance Time and Add an Inspection

The ALPA requested that an initial inspection of the oxygen hose be performed within 500 flight hours after the effective date of the AD and immediate replacement of any damaged hoses. The commenter also requested that the compliance time for the replacement specified in the NPRM (77 FR 3184, January 23, 2012) of “within 4,000 flight hours after the effective date of the AD.” be reduced to “within 2000 flight hours after the effective date of this AD.”

We do not agree to add an inspection to the requirements of this AD. We have determined that accomplishing the replacement required by paragraph (g) of this AD addresses the identified unsafe condition. We have not changed the AD in this regard.

We, also, do not agree with the request for a shorter compliance time. In developing the compliance time, we determined that the compliance time of 4,000 flight hours after the effective date of the AD is appropriate considering the safety implications, the average utilization rate of the affected fleet, the practical aspects of an orderly inspection of the fleet during regular maintenance periods, and the availability of required replacement parts. In addition, the proposed compliance time corresponds with the compliance time of the parallel AD issued by TCCA. Operators may request approval of an alternative method of compliance (AMOC) under the provisions of paragraph (i)(1) of this AD. We have not changed the AD in this regard.

Request To Revise Wording

Air Wisconsin requested that the wording in paragraph (h) of the NPRM (77 FR 3184, January 23, 2012) be changed from “modify” to “discard” as Bombardier Service Bulletin 601R-35-017, Revision A, dated June 9, 2011, states in various places to discard the hose.

We partially agree. The wording in paragraph (h) of the NPRM (77 FR 3184, January 23, 2012) incorrectly implied that both the entrance compartment assembly and the flexible oxygen hose could be modified. We have changed paragraphs (g) and (h) of this AD to clarify that the entrance compartment assembly is “modified” and that the flexible oxygen hose is “replaced with a new flexible oxygen hose.”

Conclusion

We reviewed the available data, including the comments received, and determined that air safety and the public interest require adopting the AD with the changes described previously—except for minor editorial changes. We have determined that these changes:

• Are consistent with the intent that was proposed in the NPRM (77 FR 3184, January 23, 2012) for correcting the unsafe condition; and

• Do not add any additional burden upon the public than was already proposed in the NPRM (77 FR 3184, January 23, 2012).

Costs of Compliance

We estimate that this AD will affect 588 products of U.S. registry. We also estimate that it will take about 13 work-hours per product to comply with the basic requirements of this AD. The average labor rate is $85 per work-hour. Required parts will cost about $108 per product. Where the service information lists required parts costs that are covered under warranty, we have assumed that there will be no charge for these parts. As we do not control warranty coverage for affected parties, some parties may incur costs higher than estimated here. Based on these figures, we estimate the cost of this AD to the U.S. operators to be $713,244, or $1,213 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM (77 FR 3184, January 23, 2012), the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2012-13-03 Bombardier, Inc.: Amendment 39-17105. Docket No. FAA-2012-0034; Directorate Identifier 2011-NM-153-AD.

(a) Effective Date

This airworthiness directive (AD) becomes effective August 2, 2012.

(b) Affected ADs

None.

(c) Applicability

This AD applies to Bombardier, Inc. Model CL-600-2B19 (Regional Jet Series 100 & 440) airplanes; certificated in any category; equipped with entrance compartment assembly having part numbers that begin with A281001, A282001, A283001, A284001, 4591001, 4592001, 4593001, or 4594001.

(d) Subject

Air Transport Association (ATA) of America Code 35: Oxygen.

(e) Reason

This AD was prompted by a report of a ground fire which was fed by oxygen escaping from a damaged third crew person oxygen line and had started in the vicinity of an electrical panel. We are issuing this AD to prevent the possibility of damage to the third crew person oxygen line and of an oxygen-fed fire in the airplane.

(f) Compliance

You are responsible for having the actions required by this AD performed within the compliance times specified, unless the actions have already been done.

(g) Actions

Within 4,000 flight hours after the effective date of this AD, change the routing and replace the flexible oxygen hose of the third crew person oxygen line with a new flexible oxygen hose and modify the entrance compartment assembly, in accordance with the Accomplishment Instructions of Bombardier Service Bulletin 601R-35-017, Revision A, dated June 9, 2011.

(h) Parts Installation

As of the effective date of this AD, no person may install an entrance compartment assembly having a part number that begins with A281001, A282001, A283001, A284001, 4591001, 4592001, 4593001, or 4594001, or a flexible oxygen hose having a part number 38027-0260, on any airplane, unless that entrance compartment assembly has been modified and the flexible oxygen hose has been replaced with a new flexible oxygen hose, in accordance with the Accomplishment Instructions of Bombardier Service Bulletin 601R-35-017, Revision A, dated June 9, 2011.

(i) Other FAA AD Provisions

The following provisions also apply to this AD:

(1) Alternative Methods of Compliance (AMOCs): The Manager, New York Aircraft Certification Office (ACO), ANE-170, FAA, has the authority to approve AMOCs for this AD, if requested using the procedures found in 14 CFR 39.19. In accordance with 14 CFR 39.19, send your request to your principal inspector or local Flight Standards District Office, as appropriate. If sending information directly to the ACO, send it to ATTN: Program Manager, Continuing Operational Safety, FAA, New York ACO, 1600 Stewart Avenue, Suite 410, Westbury, New York 11590; telephone 516-228-7300; fax 516-794-5531. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(j) Related Information

Refer to MCAI Canadian Airworthiness Directive CF-2011-23, dated July 14, 2011; and Bombardier Service Bulletin 601R-35-017, Revision A, dated June 9, 2011; for related information.

(k) Material Incorporated by Reference

(1) You must use the following service information to do the actions required by this AD, unless the AD specifies otherwise. The Director of the Federal Register approved the incorporation by reference (IBR) of the following service information under 5 U.S.C. 552(a) and 1 CFR part 51:

(i) Bombardier Service Bulletin 601R-35-017, Revision A, dated June 9, 2011.

(2) For service information identified in this AD, contact Bombardier, Inc., 400 Côte-Vertu Road West, Dorval, Québec H4S 1Y9, Canada; telephone 514-855-5000; fax 514-855-7401; email thd.crj@aero.bombardier.com; Internet http://www.bombardier.com.

(3) You may review copies of the service information at the FAA, Transport Airplane Directorate, 1601 Lind Avenue SW., Renton, Washington. For information on the availability of this material at the FAA, call 425-227-1221.

(4) You may also review copies of the service information that is incorporated by reference at the National Archives and Records Administration (NARA). For information on the availability of this material at an NARA facility, call 202-741-6030, or go to http://www.archives.gov/federal_register/code_of_federal_regulations/ibr_locations.html.

Issued in Renton, Washington, on June 19, 2012.
John P. Piccola,
Acting Manager, Transport Airplane Directorate, Aircraft Certification Service.

[FR Doc. 2012-15602 Filed 6-27-12; 8:45 am]

BILLING CODE 4910-13-P